DEPARTMENT OF LABOR

Office of the Secretary

Submission for OMB Review: Comment Request

June 22, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting Ira Mills at the Department of Labor on 202-693-4122 (this is not a toll-free number) or E-Mail: Mills.Ira@dol.gov. This ICR can also be accessed online at http://www.doleta.gov/OMBCN/OMBControlNumber.cfm.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Work Opportunity Tax Credit (WOTC) and Welfare-to-Work (WtW) Tax Credit.

OMB Number: 1205-0371.

Frequency: Quarterly.

Affected Public: State, Local, or Tribal Government; Individuals or households; Business or other for-profit; Federal Government.

Type of Response: Recordkeeping; reporting.

Requirement | Total respondents | Frequency | Annual responses | Average response time (Hrs) | Annual burden hours
Form 9058* | 52 | Quarterly | 208 | 1.00 | 208
Employer/Jobseeker Complete Form 9061 | 990,000 | On Occasion | 990,000 | .33 | 326,700
States Process Form 9061 | 52 | On Occasion | 990,000 | .33 | 326,700
Form 9062 | 52 | On Occasion | 40 | .33 | 13
Form 9063 | 52 | On Occasion | 440,000 | .33 | 145,200
Form 9065 | 52 | Quarterly | 208 | 1.00 | 208
Record Keeping* | 52 | Annually | 52 | 931 | 48,412
Form 9057 | 52 | Quarterly | 208 | 1.00 | 208
Form 9059 | 52 | Quarterly | 208 | 1.00 | 208
Planning Guidance* | 52 | One Time | 52 | 8.00 | 416
Modification Planning Guidance* | 52 | One Time | 52 | 1.00 | 52
Total | 990,520 |  | 2,421,028 |  | 848,325

Total Annualized Capital/Startup Costs: 0.

Total Annual Costs (operating/maintaining systems or purchasing services): 0.

Description: Data and information provided by the states on these forms are used for program planning, evaluation of Program performance and outcomes through states' quarterly report and for oversight/verification activities as mandated by the Omnibus Budget Reconciliation Act of 1990 (Pub. L. 101-508) section 11405(c), which extended indefinitely the $5 million set-aside for testing whether individuals certified as members of WOTC targeted groups are eligible for certification (including use of statistical sampling techniques). As long as there is a WOTC appropriation, this requirement continues in force and in accordance with Sections 51 and 51A of the Internal Revenue Code of 1986, as amended, Small Business Act of 1996, Taxpayer Relief Act of 1997, the Ticket to Work and Work Incentives Improvement Act of 1999 (Pub. L. 106-170), the Job Creation and Worker Assistance Act of 2002 (Pub. L. 107-147), The Social Security and Protection Act of 2004 (Pub. L. 108-203), and the Working Families Tax Relief Act of 2004 (Pub. L. 108-311).

Ira L. Mills,
Departmental Clearance Officer/Team Leader.

[FR Doc. 06-5797 Filed 6-28-06; 8:45 am]

BILLING CODE 4510-30-P